INTERNATIONAL TRADE COMMISSION

[Investigation No. 337-TA-1439]

Certain Polyvinylidene Fluoride Resins; Notice of Commission Determination Not To Review an Initial Determination Granting a Motion To Amend the Complaint and Notice of Investigation

AGENCY: U.S. International Trade Commission.

ACTION: Notice.

SUMMARY: Notice is hereby given that the U.S. International Trade Commission has determined not to review an initial determination (“ID”) (Order No. 9) granting a motion to amend the complaint and notice of investigation.

FOR FURTHER INFORMATION CONTACT: Robert Needham, Esq., Office of the General Counsel, U.S. International Trade Commission, 500 E Street SW, Washington, DC 20436, telephone (202) 708-5468. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on February 21, 2025, based on a complaint filed by Synesqo SA of Brussels, Belgium; Solvay Specialty Polymers, USA LLC of Alpharetta, Georgia; and Solvay Specialty Polymers Italy S.P.A. of Bollate, Italy (together, “Complainants”). 90 FR 10082-83 (Feb. 21, 2025). The complaint, as supplemented, alleges violations of section 337 of the Tariff Act of 1930, as amended, 19 U.S.C. 1337, in the importation into the United States, the sale for importation, or the sale within the United States after importation of certain polyvinylidene fluoride resins by reason of infringement of claims 1-7, 10, and 12 of U.S. Patent No. 8,337,725 (“the '725 patent”). Id. The complaint further alleges that a domestic industry exists or is in the process of being established. Id. The Commission's notice of investigation named as respondents Inner Mongolia 3F Wanhao Fluorochemical Industry Co. Ltd. of Fengzhen, China (“3F”); Zhejiang Juhua Co., Ltd. of Quzhou City, China; Zhejiang Fluorine Chemical New Material Co., Ltd. of Shaoxing, China (“Zhejiang Fluorine”); Hubei Fluorine New Materials Co., Ltd. of Dongtan Village, China (“Hubei Fluorine”); and Sinochem Lantian Co., Ltd. of Hangzhou, China. Id. The Office of Unfair Import Investigations is not participating in the investigation. Id.

On April 21, 2025, the Commission terminated the investigation with respect to 3F based on settlement. Order No. 8 (Mar. 28, 2025), unreviewed by Comm'n Notice (Apr. 21, 2025).

On June 6, 2025, Complainants moved to amend the complaint and notice of investigation to add allegations that Zhejiang Fluorine and Hubei Fluorine infringe claims 8 and 9 of the '725 patent, and attached a proposed First Amended Complaint. Complainants asserted that the allegations are based on discovery produced in this investigation, and that the amendment does not unduly prejudice Zhejiang Fluorine and Hubei Fluorine. On June 16, 2025, Zhejiang Fluorine and Hubei Fluorine opposed the motion, arguing that Complainants delayed four weeks in filing their motion and that the amendment causes prejudice considering the June 30, 2025 invalidity contentions deadline and the July 21, 2025 discovery deadline.

On June 23, 2025, the ALJ issued the subject ID granting the motion pursuant to 19 CFR 210.14(b). The ALJ found that Complainants had only learned of the relevant subject matter two weeks prior to filing their motion, and that any prejudice would be mitigated by Complainants' representation that they would not object to an invalidity contentions supplementation on claims 8 and 9 within a reasonable timeframe. No party petitioned for review of the subject ID.

The Commission has determined not to review the subject ID. The Commission hereby considers Complainants' First Amended Complaint to be the operative complaint in this investigation and amends the notice of investigation to include allegations asserting infringement of claims 8 and 9 of the '725 patent as consistent with the First Amended Complaint.

The Commission vote for this determination took place on July 14, 2025.

The authority for the Commission's determination is contained in section 337 of the Tariff Act of 1930, as amended (19 U.S.C. 1337), and in Part 210 of the Commission's Rules of Practice and Procedure (19 CFR part 210).

By order of the Commission.
Issued: July 15, 2025.
Lisa Barton,
Secretary to the Commission.

[FR Doc. 2025-13429 Filed 7-16-25; 8:45 am]

BILLING CODE 7020-02-P